DEPARTMENT OF TRANSPORTATION

Federal Aviation Administration

14 CFR Part 39

[Docket No. FAA-2006-24640; Directorate Identifier 2006-CE-26-AD]

RIN 2120-AA64

Airworthiness Directives; Raytheon Aircraft Company Model 390 Airplanes

AGENCY: Federal Aviation Administration (FAA), Department of Transportation (DOT).

ACTION: Notice of proposed rulemaking (NPRM).

SUMMARY: We propose to adopt a new airworthiness directive (AD) for certain Raytheon Aircraft Company Model 390 airplanes. This proposed AD would require you to inspect the spigot bearing, part number (P/N) MS14104-16, for the proper position in the spigot fitting assembly and to install the wing spigot bearing retainer kit, P/N 390-4304-0001. This proposed AD results from two reports of the spigot bearing not being positioned flush with the fitting assembly, but protruding outside of the fitting assembly. We are proposing this AD to detect spigot bearings that are not positioned flush with the fitting assembly. This condition could result in the spigot bearing becoming disengaged from the fitting assembly, which could cause motion between the wing and the fuselage and degrade the structural integrity of the wing attachment to the fuselage. This could lead to wing separation and loss of control of the airplane.

DATES: We must receive comments on this proposed AD by July 21, 2006.

ADDRESSES: Use one of the following addresses to comment on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

For service information identified in this proposed AD, contact Raytheon Aircraft Company, 9709 East Central, Wichita, Kansas 67201.

FOR FURTHER INFORMATION CONTACT: David Ostrodka, Senior Aerospace Engineer, Wichita Aircraft Certification Office, Airframe and Services Branch, ACE-118W, 1801 Airport Road, Wichita, Kansas 67209; telephone: (316) 946-4129; facsimile: (316) 946-4107; e-mail: david.ostrodka@faa.gov.

SUPPLEMENTARY INFORMATION:

Comments Invited

We invite you to send any written relevant data, views, or arguments regarding this proposed AD. Send your comments to an address listed under the ADDRESSES section. Include the docket number, “FAA-2006-24640; Directorate Identifier 2006-CE-26-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact we receive concerning this proposed AD.

Discussion

We have received two reports of the spigot bearing not being positioned flush with the fitting assembly, but protruding outside of the fitting assembly on Raytheon Aircraft Company Model 390 airplanes. The spigot bearing transfers forward, aft, and side loads between the wing and the fuselage. If the spigot bearing becomes disengaged from the fitting assembly, inflight loads could cause motion between the wing and the fuselage and degrade the structural integrity of the wing attachment to the fuselage.

This condition, if not corrected, could result in wing separation and loss of control of the airplane.

Relevant Service Information

We have reviewed Raytheon Aircraft Company Mandatory Service Bulletin SB 53-3765, issued: November, 2005.

The service information describes procedures for:

• Inspecting the spigot bearing for proper position in the spigot fitting assembly; and

• Installing the wing spigot bearing retainer kit P/N 390-4304-0001.

FAA's Determination and Requirements of the Proposed AD

We are proposing this AD because we evaluated all information and determined the unsafe condition described previously is likely to exist or develop on other products of the same type design. This proposed AD would require you to inspect the spigot bearing, P/N MS14104-16, for proper position in the spigot fitting assembly and to install the wing spigot bearing retainer kit, P/N 390-4304-0001.

Costs of Compliance

We estimate that this proposed AD would affect 78 airplanes in the U.S. registry.

We estimate the following costs to do the proposed inspection:

Labor cost | Parts cost | Total cost per airplane | Total cost on U.S. operators
2 workhours × $80 per hour = $160 | Not applicable | $160 | $12,480

We estimate the following costs to do the installation of the spigot bearing retainer kit, P/N 390-4304-0001:

Labor cost | Parts cost | Total cost per airplane | Total cost on U.S. operators
8 workhours × $80 per hour = $640 | $1,442 | $2,082 | $162,396

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://dms.dot.gov; or in person at the Docket Management Facility between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Raytheon Aircraft Company: Docket No. FAA-2006-24640; Directorate Identifier 2006-CE-26-AD.

Comments Due Date

(a) We must receive comments on this airworthiness directive (AD) action by July 21, 2006.

Affected ADs

(b) None.

Applicability

(c) This AD affects Model 390 airplanes, serial numbers RB-1 and RB-4 through RB-139, that are certificated in any category.

Unsafe Condition

(d) This proposed AD results from two reports of the spigot bearing not being positioned flush with the fitting assembly, but protruding outside of the fitting assembly. We are proposing this AD to detect spigot bearings that are not positioned flush with the fitting assembly. This condition could result in the spigot bearing becoming disengaged from the fitting assembly, which could cause motion between the wing and the fuselage and degrade the structural integrity of the wing attachment to the fuselage. This could lead to wing separation and loss of control of the airplane.

Compliance

(e) To address this problem, you must do the following:

Actions | Compliance | Procedures
(1) Inspect to determine whether the spigot bearing, part number (P/N) MS14104-16, is positioned flush inside the spigot fitting assembly and not protruding outside of the fitting assembly | Within 50 hours time-in-service (TIS) after the effective date of this AD, and repetitively inspect thereafter every 50 hours TIS until the installation in paragraph (e)(2) of this AD is done | Follow Raytheon Aircraft Company Mandatory Service Bulletin SB 53-3765, issued: November, 2005.
(2) Install the spigot bearing retainer kit, P/N 390-4304-0001. This installation terminates the inspection requirements in paragraph (e)(1) of this AD | At whichever of the following occurs first, unless already done: (i) Before further flight after any inspection required by this AD where the spigot bearing, P/N MS14104-16, is found not to be flush with the spigot fitting assembly; or (ii) Within 200 hours TIS or one calendar year after the effective date of this AD, whichever occurs first | Follow Raytheon Aircraft Company Mandatory Service Bulletin SB 53-3765, issued: November, 2005.

Alternative Methods of Compliance (AMOCs)

(f) The Manager, Wichita Aircraft Certification Office (ACO), FAA, ATTN: David Ostrodka, Senior Aerospace Engineer, Wichita ACO, Airframe and Services Branch, ACE-118W, 1801 Airport Road, Wichita, Kansas 67209; telephone: (316) 946-4129; facsimile: (316) 946-4107 has the authority to approve AMOCs for this AD, if requested using the procedures found in 14 CFR 39.19.

Related Information

(g) To get copies of the documents referenced in this AD, contact Raytheon Aircraft Company, 9709 East Central, Wichita, Kansas 67201. To view the AD docket, go to the Docket Management Facility; U.S. Department of Transportation, 400 Seventh Street, SW., Nassif Building, Room PL-401, Washington, DC, or on the Internet at http://dms.dot.gov. The docket number is Docket No. FAA-2006-24640; Directorate Identifier 2006-CE-26-AD.

Issued in Kansas City, Missouri, on May 17, 2006.
James E. Jackson,
Acting Manager, Small Airplane Directorate, Aircraft Certification Service.

[FR Doc. E6-7828 Filed 5-22-06; 8:45 am]

BILLING CODE 4910-13-P